DEPARTMENT OF COMMERCE

National Oceanic and Atmospheric Administration

Notice of Intent To Conduct Scoping and To Prepare a Draft Environmental Impact Statement for the Proposed Atchafalaya National Estuarine Research Reserve

AGENCY: Office for Coastal Management, National Ocean Service (NOS), National Oceanic and Atmospheric Administration (NOAA), U.S. Department of Commerce.

ACTION: Notice of Intent to prepare a draft environmental impact statement and hold public scoping meetings; request for comments.

SUMMARY: In accordance with Section 315 of the Coastal Zone Management Act of 1972, as amended, and the National Environmental Policy Act of 1969, as amended, NOAA and the State of Louisiana (the State) intend to prepare a Draft Environmental Impact Statement (DEIS) and Draft Management Plan (DMP) for the proposed Atchafalaya National Estuarine Research Reserve (NERR). NOAA and the State also announce two public scoping meetings to solicit comments on significant issues related to the development of a DEIS for the proposed Atchafalaya NERR.

DATES: An in-person meeting will be held on Thursday, April 20, 2023 at 5 p.m. Central Daylight Time (CDT). A virtual meeting will be held on Tuesday, April 25, 2023 at 12 p.m. CDT. Written comments provided electronically must be submitted no later than Monday, May 15, 2023; written comments submitted by mail must be postmarked by Monday, May 15, 2023.

ADDRESSES: The public scoping meeting on Thursday, April 20, 2023 will be conducted at the Morgan City Municipal Auditorium; 728 Myrtle Street, Morgan City, Louisiana 70380 at 5 p.m. CDT. This meeting will be in-person only and not broadcast. The public scoping meeting on Tuesday, April 25, 2023 will be held virtually at the following link: https://www.youtube.com/@louisianacpra5300/streams at 12 p.m. CDT. Participants will be able to provide written comments during the virtual meeting. Meeting documents will be available on the Coastal Protection and Restoration Authority's NERR website: https://coastal.la.gov/our-work/key-initiatives/atchafalaya-national-estuarine-research-reserve/, as well as on the Federal eRulemaking Portal: https://www.regulations.gov/docket/NOAA-NOS-2023-0050. Written comments may be submitted by:

• Electronic Submission: Submit all electronic public comments via the Federal eRulemaking Portal. Go to https://www.regulations.gov/docket/NOAA-NOS-2023-0050, click the “Comment Now!” button, complete the required fields, and enter or attach your comments. Written comments must be submitted no later than 11:59 p.m. Eastern Daylight Time on Monday, May 15, 2023.

• Mail: Submit written comments to Kristin Ransom, Stewardship Division, Office for Coastal Management, NOS, NOAA, 1021 Balch Boulevard, Stennis Space Center, Mississippi, 39529; ATTN: Atchafalaya NERR. Comments must be postmarked no later than Monday, May 15, 2023.

Instructions: All comments received are part of the public record and will be posted for public viewing on https://www.regulations.gov/docket/NOAA-NOS-2023-0050 with no changes. All personally identifiable information (e.g., name, address, etc.), confidential business information, or otherwise sensitive information submitted voluntarily by the commenter will be publicly accessible and maintained by NOAA as part of the public record. NOAA will accept anonymous comments; on the eRulemaking Portal, enter “N/A” in the required fields if you wish to remain anonymous. If you would like to submit an anonymous comment during the in-person meeting, a comment box along with paper and writing implements will be provided. Multimedia submissions (i.e., audio, video, etc.) must be accompanied by a written comment. The written comment is considered the official comment and should include discussion of all points you wish to make. NOAA will generally not consider comments, or comment contents, located outside of the primary submission sites or addresses (i.e., those posted on the web, cloud, or other file-sharing system). Please note that no public comments will be audio or video recorded by NOAA or the State.

Closed captioning will be provided for those who attend the virtual public meeting through the meeting link: https://www.youtube.com/@louisianacpra5300/streams.

FOR FURTHER INFORMATION CONTACT: Kristin Ransom, Stewardship Division, Office for Coastal Management, NOS, NOAA, 1021 Balch Boulevard, Stennis Space Center, Mississippi, 39529; ATTN: LA NERR. Phone: 601-568-1091-; or Email: kristin.ransom@noaa.gov.

SUPPLEMENTARY INFORMATION: In accordance with Section 315 of the Coastal Zone Management Act of 1972, as amended, and its implementing regulations (15 CFR part 921), and the National Environmental Policy Act of 1969, as amended, and its implementing regulations (40 CFR part 1500), NOAA and the State intend to prepare a DEIS for the proposed Atchafalaya NERR. Early in the development of the DEIS, NOAA and the State are required to hold a scoping meeting to solicit public and government comments on significant issues related to this proposed action. (15 CFR 921.13(c)).

NOAA received the State's nomination of the proposed site on June 29, 2022. NOAA evaluated the nomination package and found that the proposed site met the NERR System requirements. NOAA informed the State on March 22, 2023 that it was accepting the nomination and that the next step would be to prepare a DEIS and DMP. The DEIS will assess the potential impact of designating the State's recommended site as a National Estuarine Research Reserve site, and identify boundary alternatives. The DMP will set a course for operating the Atchafalaya NERR if approved and will include plans for administration, research, education, and facilities of the proposed site. (See 15 CFR 921.13.)

The proposed site consists of the following State-owned properties: Lake Fausse Pointe State Park, Attakapas Island Wildlife Management Area, Atchafalaya Delta Wildlife Management Area, and Marsh Island Wildlife Refuge; public trust waters including portions of the Atchafalaya River, Atchafalaya Bay, East and West Cote Blanche Bays, and Vermilion Bay.

The proposed site resulted from a comprehensive evaluation process that sought the views of the public, affected landowners, and other interested parties. The state held informal, widely-publicized town hall meetings statewide in February 2022 to describe the NERR system, explain the rationale for establishing a reserve in Louisiana, and outline a process for selecting and nominating a site to NOAA. The state assembled a Site Development Committee composed of State agency representatives, academia, non-governmental organizations, members of the public, and federal agencies. The team conducted preliminary screening, detailed screening, and scoring of potential sites that led to the preferred site. The State and NOAA held public hearings on November 2 and 3, 2022 to solicit comments on the proposed site. For more detailed information on the site selection process and the proposed site, see the Louisiana Coastal Protection and Restoration Authority's NERR website: https://coastal.la.gov/our-work/key-initiatives/atchafalaya-national-estuarine-research-reserve/.

Federal Domestic Assistance Catalog Number 11.420, (Coastal Zone Management) Research Reserves.

Authority: 16 U.S.C. 1461.

Keelin Kuipers,
Deputy Director, Office for Coastal Management, National Ocean Service, National Oceanic and Atmospheric Administration.

[FR Doc. 2023-07056 Filed 4-4-23; 8:45 am]

BILLING CODE 3510-08-P